DEPARTMENT OF LABOR

Occupational Safety and Health Administration

[Docket No. NRTL1-90]

Communication Certification Laboratory, Inc., Renewal and Expansion of Recognition

AGENCY: Occupational Safety and Health Administration (OSHA), Labor.

ACTION: Notice.

SUMMARY: This notice announces the Agency's final decision on the application of Communication Certification Laboratory, Inc., (CCL) for renewal of its recognition as a Nationally Recognized Testing Laboratory and for expansion of its recognition to use additional test standards under 29 CFR 1910.7.

DATES: Recognition: The renewal and expansion of recognition become effective on June 10, 2005.

FOR FURTHER INFORMATION CONTACT: Office of Technical Programs and Coordination Activities, NRTL Program, Occupational Safety and Health Administration, U.S. Department of Labor, 200 Constitution Avenue, NW., Room N3653, Washington, DC 20210, or phone (202) 693-2110, or phone (202) 693-2110.

SUPPLEMENTARY INFORMATION:

Notice of Final Decision

The Occupational Safety and Health Administration (OSHA) hereby gives notice of the renewal and expansion of recognition of Communication Certification Laboratory, Inc., (CCL) as a Nationally Recognized Testing Laboratory (NRTL). CCL's expansion covers the use of additional test standards. OSHA's current scope of recognition for CCL may be found in the following informational Web page: http://www.osha.gov/dts/otpca/nrtl/ccl.html.

OSHA recognition of an NRTL signifies that the organization has met the legal requirements in Section 1910.7 of Title 29, Code of Federal Regulations (29 CFR 1910.7). Recognition is an acknowledgment that the organization can perform independent safety testing and certification of the specific products covered within its scope of recognition and is not a delegation or grant of government authority. As a result of recognition, employers may use products “properly certified” by the NRTL to meet OSHA standards that require testing and certification.

The Agency processes applications by an NRTL for initial recognition or for expansion or renewal of this recognition following requirements in Appendix A to 29 CFR 1910.7. This appendix requires that the Agency publish two notices in the Federal Register in processing an application. In the first notice, OSHA announces the application and provides its preliminary finding and, in the second notice, the Agency provides its final decision on the application. These notices set forth the NRTL's scope of recognition or modifications of this scope.

CCL initially received OSHA recognition as a Nationally Recognized Testing Laboratory on June 21, 1991 (56 FR 28579) for a five-year period ending on June 21, 1996. CCL properly requested a renewal of recognition, and OSHA granted CCL's first renewal on April 2, 1998 (63 FR 16279) for another five-year period ending April 2, 2003.

Appendix A to 29 CFR 1910.7 stipulates that the period of recognition of an NRTL is five years and that an NRTL may renew its recognition by applying not less than nine months, nor more than one year, before the expiration date of its current recognition. NRTLs submitting requests within this allotted time period retain their recognition during OSHA's renewal process. CCL submitted a request, dated June 26, 2002 (see Exhibit 11), to renew its recognition, within the allotted time period, and retained its recognition during this renewal process. CCL also requested expansion of its recognition to include three additional test standards but amended its request to just two additional standards, which the NRTL Program staff has determined to be appropriate test standards, within the meaning of 29 CFR 1910.7(c). (The staff makes similar determinations in processing expansion requests from any NRTL.) Therefore, OSHA is approving the two test standards for the expansion, which are listed below.

For purposes of processing CCL's request, OSHA NRTL Program staff performed two on-site reviews of CCL's facility on November 18-20, 2002, and on October 29-30, 2003. In the memo for the on-site reviews (see Exhibit 12), the staff recommended CCL's renewal and its expansion to include the two test standards requested. However, the Agency delayed processing of the final notice for the renewal and expansion, in part, until it obtained certain information relative to the application. This information was obtained prior to publication of the preliminary notice.

OSHA published the notice of its preliminary findings on the renewal and expansion request in the Federal Register on November 24, 2004 (69 FR 68405). The notice requested submission of any public comments by December 9, 2004. OSHA did not receive any comments pertaining to the application.

Other than the preliminary notice mentioned above, the most recent notices published by OSHA for CCL's recognition covered its prior renewal, as noted above.

You may obtain or review copies of all public documents pertaining to the CCL application by contacting the Docket Office, Occupational Safety and Health Administration, U.S. Department of Labor, 200 Constitution Avenue, NW., Room N2625, Washington, DC 20210. Docket No. NRTL1-90 contains all materials in the record concerning CCL's application.

The current address of the CCL facility (site) already recognized by OSHA and included as part of the renewal is:

Communication Certification Laboratory, Inc., 1940 West Alexander Street, Salt Lake City, Utah 84119.

Final Decision and Order

NRTL Program staff has examined the application, the assessor's reports, and other pertinent information. Based upon this examination and the assessor's recommendation, OSHA finds that Communication Certification Laboratory, Inc., has met the requirements of 29 CFR 1910.7 for renewal of its recognition and for the expansion to include two additional test standards, UL 6500 and UL 61010A-1, subject to the limitations and conditions, also listed below. Pursuant to the authority in 29 CFR 1910.7, OSHA hereby renews and expands the recognition of CCL, subject to these limitations and conditions.

Limitation

OSHA limits the renewal and expansion of CCL's recognition to testing and certification of products for demonstration of conformance to the four test standards listed below. ¹ OSHA has determined that the standards meet the requirements for an appropriate test standard, within the meaning of 29 CFR 1910.7(c).

¹ Two standards, UL 1459 and UL 1950, were included in the preliminary notice on a temporary basis although they had been withdrawn by the standards developing organization. As explained in that notice, we did so pending removal or replacement of these and other withdrawn standards, at the same time, from the scope of recognition of all applicable NRTLs. The necessary Federal Register notice to remove or replace those test standards was published on March 8, 2005 (70 FR 11273), making it no longer necessary to temporarily include these two standards in CCL's scope.

UL1012 Power Units Other Than Class 2

UL 6500 Audio/Visual and Musical Instrument Apparatus for Household, Commercial, and Similar General Use

UL 60950 Information Technology Equipment

UL 61010A-1 Electrical Equipment for Laboratory Use; Part 1: General Requirements

The designation and title of the above test standards were current at the time of the preparation of the notice of the preliminary finding.

OSHA's recognition of CCL, or any NRTL, for a particular test standard is limited to equipment or materials (i.e., products) for which OSHA standards require third party testing and certification before use in the workplace. Consequently, an NRTL's scope of recognition excludes any product(s) falling within the scope of a test standard for which OSHA has no NRTL testing and certification requirements.

Many UL test standards also are approved as American National Standards by the American National Standards Institute (ANSI). However, for convenience, we use the designation of the standards developing organization for the standard as opposed to the ANSI designation. Under our procedures, any NRTL recognized for an ANSI-approved test standard may use either the latest proprietary version of the test standard or the latest ANSI version of that standard. You may contact ANSI to find out whether or not a test standard is currently ANSI-approved.

Programs and Procedures

The renewal includes CCL's continued use of any supplemental programs for which it is approved, based upon the criteria detailed in OSHA's March 9, 1995, Federal Register notice on the NRTL programs (60 FR 12980). This notice lists nine (9) programs, eight of which (called the supplemental programs) an NRTL may use to control and audit, but not necessarily to generate, the data relied upon for product certification. An NRTL's initial recognition will always include the first or basic program, which requires that all product testing and evaluation be performed in-house by the NRTL that will certify the product. OSHA has already recognized CCL for the program listed below. See http://www.osha.gov/dts/otpca/nrtl/ccl.html.

Program 9: Acceptance of services other than testing or evaluation performed by subcontractors or agents.

OSHA developed these programs to limit how an NRTL may perform certain aspects of its work and to permit the activities covered under a program only when the NRTL meets certain criteria. In this sense, they are special conditions that the Agency places on an NRTL's recognition. OSHA does not consider these programs in determining whether an NRTL meets the requirements for recognition under 29 CFR 1910.7. However, these programs help to define the scope of that recognition.

Conditions

CCL must also abide by the following conditions of the recognition, in addition to those already required by 29 CFR 1910.7:

OSHA must be allowed access to CCL's facility and records for purposes of ascertaining continuing compliance with the terms of its recognition and to investigate as OSHA deems necessary;

If CCL has reason to doubt the efficacy of any test standard it is using under this program, it must promptly inform the test standard developing organization of this fact and provide that organization with appropriate relevant information upon which its concerns are based;

CCL must not engage in or permit others to engage in any misrepresentation of the scope or conditions of its recognition. As part of this condition, CCL agrees that it will allow no representation that it is either a recognized or an accredited Nationally Recognized Testing Laboratory (NRTL) without clearly indicating the specific equipment or material to which this recognition is tied, or that its recognition is limited to certain products;

CCL must inform OSHA as soon as possible, in writing, of any change of ownership, facilities, or key personnel, and of any major changes in its operations as an NRTL, including details;

CCL will meet all the terms of its recognition and will always comply with all OSHA policies pertaining to this recognition; and

CCL will continue to meet the requirements for recognition in all areas where it has been recognized.

Signed at Washington, DC this 31st day of May, 2005.
Jonathan L. Snare,
Acting Assistant Secretary.

[FR Doc. 05-11509 Filed 6-9-05; 8:45 am]

BILLING CODE 4510-26-P